DEPARTMENT OF THE INTERIOR

National Park Service

[NPS-WASO-NAGPRA-23209; PPWOCRADN0-PCU00RP14.R50000]

Notice of Inventory Completion for Native American Human Remains and Associated Funerary Objects in the Control of the U.S. Department of the Interior, National Park Service, Ocmulgee National Monument, Macon, GA; Correction

AGENCY: National Park Service, Interior.

ACTION: Notice; correction.

SUMMARY: The U.S. Department of the Interior, National Park Service, Ocmulgee National Monument has corrected an inventory of human remains and associated funerary objects, published in a Notice of Inventory Completion in the Federal Register on June 18, 2001. This notice corrects the minimum number of individuals and number of associated funerary objects. Lineal descendants or representatives of any Indian tribe or Native Hawaiian organization not identified in this notice that wish to request transfer of control of these human remains and associated funerary objects should submit a written request to Ocmulgee National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Ocmulgee National Monument at the address in this notice by July 3, 2017.

ADDRESSES: Jim David, Superintendent, Ocmulgee National Monument, 1207 Emery Highway, Macon, GA 31217, telephone (478) 752-8257, email jim_david@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Ocmulgee National Monument, Macon, GA. The human remains and associated funerary objects were removed from Trading Post, Bibb County, GA.

This notice is published as part of the National Park Service's administrative responsibilities under NAGPRA, 25 U.S.C. 3003(d)(3). The determinations in this notice are the sole responsibility of the Superintendent, Ocmulgee National Monument.

This notice corrects the minimum number of individuals and number of associated funerary objects published in a Notice of Inventory Completion in the Federal Register (66 FR 32842-32843, June 18, 2001). Additional individuals and associated funerary objects were identified during review of collections. Transfer of control of the items in this correction notice has not occurred.

Correction

In the Federal Register (66 FR 32842, June 18, 2001), column 2, paragraph 1, sentences 1-3 are corrected by substituting the following sentences:

Between 1957 and 1958, human remains representing 17 individuals were recovered from the Trading Post area of the Macon Plateau unit of Ocmulgee National Monument. No known individuals were identified. The 17,037 associated funerary objects are 2 axes, 4 balls, 1 musket ball, 16,147 beads, 1 biface, 2 blades, 217 animal remains, 1 piece of charcoal, 6 pieces of fired clay, 1 concretion, 2 cores, 3 pieces of daub, 46 flakes, 7 flake tools, 2 glass fragments, 1 gorget, 5 gunflints, 1 stone knife, 38 jars, 2 iron knives, 4 metal fragments, 2 shells, 1 ornament, 4 tobacco pipes, 2 flintlock pistols, 2 plant fragments, 1 projectile point, 3 preforms, 1 rifle, 3 scrapers, 4 seeds, 3 pieces of shatter, 13 gun shots, 1 shotgun shell, 2 spiral springs, 6 unmodified stones, 1 uniface, 1 bag of unmodified stone, and 494 vessel fragments.

In the Federal Register (66 FR 32842, June 18, 2001), column 3 paragraph 2, sentences 1-2 are corrected by substituting the following sentences:

Based on the above-mentioned information, the superintendent of Ocmulgee National Monument has determined that, pursuant to 43 CFR 10.2(d)(1), the human remains listed above represent the physical remains of 21 individuals of Native American ancestry. The superintendent of Ocmulgee National Monument also has determined that, pursuant to 43 CFR 10.2(d)(2), the 32,022 objects listed above are reasonably believed to have been placed with or near individual human remains at the time of death or late as part of the death rite or ceremony.

Additional Requestors and Disposition

Lineal descendants or representatives of any Indian tribe or Native Hawaiian organization not identified in this notice that wish to request transfer of control of these human remains and associated funerary objects should submit a written request with information in support of the request to Jim David, Superintendent, Ocmulgee National Monument, 1207 Emery Highway, Macon, GA 31217, telephone (478) 752-8257, email jim_david@nps.gov, by July 3, 2017. After that date, if no additional requestors have come forward, transfer of control of the human remains and associated funerary objects to the Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town may proceed.

Ocmulgee National Monument is responsible for notifying the Absentee-Shawnee Tribe of Indians of Oklahoma, Alabama-Coushatta Tribe of Texas (previously listed as the Alabama-Coushatta Tribes of Texas), Alabama-Quassarte Tribal Town, Catawba Indian Nation (aka Catawba Tribe of South Carolina), Cherokee Nation, Coushatta Tribe of Louisiana, Eastern Band of Cherokee Indians, Eastern Shawnee Tribe of Oklahoma, Jena Band of Choctaw Indians, Kialegee Tribal Town, Miccosukee Tribe of Indians, Mississippi Band of Choctaw Indians, Poarch Band of Creeks (previously listed as the Poarch Band of Creek Indians of Alabama), Seminole Tribe of Florida (previously listed as the Seminole Tribe of Florida (Dania, Big Cypress, Brighton, Hollywood & Tampa Reservations)), The Chickasaw Nation, The Choctaw Nation of Oklahoma, The Muscogee (Creek) Nation, The Seminole Nation of Oklahoma, Shawnee Tribe, Thlopthlocco Tribal Town, and United Keetowah Band of Cherokee Indians in Oklahoma that this notice has been published.

Dated: April 3, 2017.
Melanie O'Brien,
Manager, National NAGPRA Program.

[FR Doc. 2017-11450 Filed 6-1-17; 8:45 am]

BILLING CODE 4312-52-P